DEPARTMENT OF COMMERCE

Recruitment of First Responder Network Authority Board Members

AGENCY: National Telecommunications and Information Administration, U.S. Department of Commerce.

ACTION: Notice; reopening of application window.

SUMMARY: On March 19, 2019, the National Telecommunications and Information Administration (NTIA) published a notice seeking expressions of interest in an appointment to the Board of the First Responder Network Authority (FirstNet). The notice established a deadline of April 18, 2019 for the transmittal of expressions of interest. This notice reopens the period for submission of expressions of interest until April 26, 2019.

DATES: Expressions of interest must be postmarked or electronically transmitted on or before April 26, 2019.

ADDRESSES: Persons wishing to submit expressions of interest as described below should send that information to: Michael Dame, Deputy Associate Administrator of NTIA's Office of Public Safety Communications, by email to FirstNetBoardApplicant@ntia.gov; or by U.S. mail or commercial delivery service to: Office of Public Safety Communications, National Telecommunications and Information Administration, 1401 Constitution Avenue NW, Room 4078, Washington, DC 20230. Please note that all material sent via the U.S. Postal Service (including “Overnight” or “Express Mail”) is subject to delivery delays of up to two weeks due to mail security procedures.

FOR FURTHER INFORMATION CONTACT: Michael Dame, Deputy Associate Administrator, Office of Public Safety Communications, National Telecommunications and Information Administration, U.S. Department of Commerce, 1401 Constitution Avenue NW, Room 4078, Washington, DC 20230; telephone: (202) 482-1181; email: mdame@ntia.gov. Please direct media inquiries to NTIA's Office of Public Affairs, (202) 482-7002.

SUPPLEMENTARY INFORMATION: On March 19, 2019, NTIA published a notice seeking expressions of interest in an appointment to the FirstNet Board. See Notice, Recruitment of First Responder Network Authority Board Members, 84 FR 10047 (Mar. 19, 2019). The notice established a deadline of April 18, 2019 for the transmittal of expressions of interest. To ensure that all interested parties have an opportunity to submit expressions of interest, NTIA through this notice reopens the submission period until April 26, 2019.

Dated: April 16, 2019.
Kathy Smith,
Chief Counsel, National Telecommunications and Information Administration.

[FR Doc. 2019-07926 Filed 4-18-19; 8:45 am]

BILLING CODE 3510-10-P